DEPARTMENT OF STATE

[Public Notice: 11612]

Advisory Committee on Historical Diplomatic Documentation—Notice of Closed and Open Meetings for 2021

SUMMARY: The Advisory Committee on Historical Diplomatic Documentation will meet on March 7-8, June 6-7, September 12-13, and December 5-6, 2022, in open session to discuss unclassified matters concerning declassification and transfer of Department of State records to the National Archives and Records Administration and the status of the Foreign Relations series. It is assumed that the public portions of these meetings will not need to be held virtually because of concerns surrounding the coronavirus pandemic. However, should that change based on guidance from public health authorities, the Department will notify those who have RSVP'd.

DATES: The Committee will meet in open session from 11:00 a.m. until noon in SA-4D Conference Room 109, Department of State, 2300 E Street NW, Washington, DC 20372 (Potomac Navy Hill Annex), on all four dates. RSVP and requests for reasonable accommodation for each meeting should be sent as directed below:

• March 7, not later than February 28, 2022.

• June 6, not later than May 30, 2022.

• September 12, not later than September 5, 2022.

• December 5, not later than November 28, 2022.

FOR FURTHER INFORMATION CONTACT: Questions concerning the meeting should be directed to Adam M. Howard, Executive Secretary, Advisory Committee on Historical Diplomatic Documentation, Department of State, Office of the Historian, Washington, DC 20372, telephone (202) 955-0214, (email history@state.gov).

SUPPLEMENTARY INFORMATION:

Closed Sessions. The Committee's sessions in the afternoon of Monday, March 7, 2022; in the morning of Tuesday, March 8; in the afternoon of Monday, June 6, 2022; in the morning of Tuesday, June 7, 2022; in the afternoon of Monday, September 12, 2022; in the morning of Tuesday, September 13, 2022; in the afternoon of Monday, December 5, 2022; and in the morning of Tuesday, December 6, 2022, will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure.

RSVP Instructions. Prior notification and a valid government-issued photo ID (such as driver's license, passport, U.S. Government or military ID) are required for entrance into the Department of State building. Members of the public planning to attend the open meetings should RSVP, by the dates indicated above, to Julie Fort, Office of the Historian (202-955-0214). When responding, please provide date of birth, valid government-issued photo identification number and type (such as driver's license number/state, passport number/country, or U.S. Government ID number/agency or military ID number/branch), and relevant telephone numbers. If you cannot provide one of the specified forms of ID, please consult with Julie Fort for acceptable alternative forms of picture identification.

Personal data is requested pursuant to Public Law 99-399 (Omnibus Diplomatic Security and Antiterrorism Act of 1986), as amended; Public Law 107-56 (USA PATRIOT Act); and E.O. 13356. The purpose of the collection is to validate the identity of individuals who enter Department facilities. The data will be entered into the Visitor Access Control System (VACS-D) database. Please see the Security Records System of Records Notice (State-36) at https://www.state.gov/wp-content/uploads/2019/05/Security-Records-STATE-36.pdf, for additional information.

Note that requests for reasonable accommodation received after the dates indicated in this notice will be considered but might not be possible to fulfill.

Kevin E. Bryant,
Deputy Director, Office of Directives Management, Department of State.

[FR Doc. 2021-28303 Filed 12-29-21; 8:45 am]

BILLING CODE 4710-34-P